DEPARTMENT OF COMMERCE

National Oceanic and Atmospheric Administration

RIN 0648-XW65

New England Fishery Management Council; Public Meeting

AGENCY: National Marine Fisheries Service (NMFS), National Oceanic and Atmospheric Administration (NOAA), Commerce.

ACTION: Notice of a public meeting.

SUMMARY: The New England Fishery Management Council's (Council) Groundfish Committee will meet to consider actions affecting New England fisheries in the exclusive economic zone (EEZ).

DATES: The meeting will be held on Wednesday, June 16, 2010 at 9 a.m.

ADDRESSES: The meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee(s agenda are as follows:

1. The Committee will review groundfish action items for possible inclusion in management measures including:

•Georges Bank yellowtail flounder rebuilding time frame

•New sector requests

•Update on status of pollock if preliminary results from the 2010 Stock Assessment Review Committee (SARC) are available

•General category scallop dredge exemption for yellowtail flounder in the Great South Channel

2. The Committee may also discuss these additional groundfish management issues:

•Party and charter boat limited entry control date

•Accountability measures

•Gulf of Maine winter flounder zero possession and allocation

•Permit banks

3. The Committee will consider the possible initiation of an amendment to the Fishery Management Plan relating to allocative effects and excessive control of fishing privileges. Groundfish fleet diversity issues and social and economic objectives will also be addressed.

4. Other business may also be discussed, including a review of seasonal rolling closures if available.

The Committee's recommendations will be delivered to the full Council at its meeting in Portland, ME on June 22-24, 2010.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 24, 2010.
Tracey L. Thompson,
Acting Director, Office of Sustainable Fisheries, National Marine Fisheries Service.

[FR Doc. 2010-12803 Filed 5-27-10; 8:45 am]

BILLING CODE 3510-22-S